DEPARTMENT OF HEALTH AND HUMAN SERVICES

Centers for Medicare & Medicaid Services

Privacy Act of 1974; Deletion of an Existing System of Records

AGENCY: Department of Health and Human Services (HHS), Centers for Medicare & Medicaid Services (CMS).

ACTION: Notice to delete an existing CMS system of records (SOR).

SUMMARY: In accordance with the requirements of the Privacy Act of 1974, CMS is deleting an existing system of records titled the “Privacy Accountability Database (PAD),” CMS System No. 09-70-0540, established at 67 FR 62482 (October 7, 2002).

EFFECTIVE DATE: The deletion will be effective on February 11, 2008.

ADDRESSES: The public should address comments to: CMS Privacy Officer, Division of Privacy Compliance, Enterprise Architecture and Strategy Group, Office of Information Services, CMS, Room N2-04-27, 7500 Security Boulevard, Baltimore, Maryland 21244-1850. The telephone number is (410) 786-5357. Comments received will be available for review at this location, by appointment, during regular business hours, Monday through Friday from 9 a.m.-3 p.m., Eastern Time zone.

SUPPLEMENTARY INFORMATION: The PAD as a Privacy Act system of records is being deleted because the database that supported this collection is obsolete and is no longer active. CMS will continue to track disclosures and will provide the necessary tracking, reporting, and accounting of disclosures to be in compliance with the Privacy Act of 1974 and the Health Insurance Portability and Accountability Act of 1996.

Dated: February 20, 2008.
Charlene Frizzera,
Chief Operating Officer, Centers for Medicare & Medicaid Services.

[FR Doc. 08-873 Filed 2-26-08; 8:45 am]

BILLING CODE 4120-03-P